DEPARTMENT OF ENERGY

Federal Energy Regulatory Commission

Combined Notice of Filings #1

December 7, 2009.

Take notice that the Commission received the following electric rate filings:

Docket Numbers: ER08-1237-002.

Applicants: Shiloh Wind Project 2, LLC.

Description: Response to Staff Request and Request for Confidential Treatment of Shiloh Wind Project 2, LLC.

Filed Date: 12/04/2009.

Accession Number: 20091204-5137.

Comment Date: 5 p.m. Eastern Time on Monday, December 28, 2009.

Docket Numbers: ER08-1288-005.

Applicants: Wapsipinicon Wind Project, LLC.

Description: Response to Staff Request and Request for Confidential Treatment of Wapsipinicon Wind Project, LLC.

Filed Date: 12/04/2009.

Accession Number: 20091204-5139.

Comment Date: 5 p.m. Eastern Time on Monday, December 28, 2009.

Docket Numbers: ER09-4-002.

Applicants: Krayn Wind LLC.

Description: Krayn Wind LLC Notice of Change in Status Krayn Wind.

Filed Date: 12/03/2009.

Accession Number: 20091203-5117.

Comment Date: 5 p.m. Eastern Time on Thursday, December 24, 2009.

Docket Numbers: ER10-195-001.

Applicants: Southwest Power Pool, Inc.

Description: Southwest Power Pool, Inc submits executed Service Agreement for Network Integration Transmission Service between SPP and American Electric Power Service Corporation, et al.

Filed Date: 12/03/2009.

Accession Number: 20091207-0037.

Comment Date: 5 p.m. Eastern Time on Thursday, December 24, 2009.

Docket Numbers: ER10-225-001.

Applicants: Major Energy Electric Services, LLC.

Description: Petition for acceptance of initial tariff, waivers and blanket authority for Major Energy Electric Services, LLC.

Filed Date: 12/03/2009.

Accession Number: 20091207-0036.

Comment Date: 5 p.m. Eastern Time on Thursday, December 24, 2009.

Docket Numbers: ER10-317-001.

Applicants: Arizona Public Service Company.

Description: Arizona Public Service Company submits errata filing with an identical version of the agreement that is properly designated as Service Agreement 301.

Filed Date: 12/03/2009.

Accession Number: 20091207-0033.

Comment Date: 5 p.m. Eastern Time on Thursday, December 24, 2009.

Docket Numbers: ER10-346-001; ER04-485-014; ER01-1654-019; ER00-2917-017.

Applicants: Calvert Cliffs Nuclear Power Plant LLC; R.E. Ginna Nuclear Power Plant, LLC; Nine Mile Point Nuclear Station, LLC; Calvert Cliffs Nuclear Power Plant, Inc.

Description: Change in Status Filing of Constellation Energy Nuclear Group, LLC.

Filed Date: 12/04/2009.

Accession Number: 20091204-5145.

Comment Date: 5 p.m. Eastern Time on Monday, December 28, 2009.

Docket Numbers: ER10-374-000.

Applicants: Medicine Bow Power Partners, LLC.

Description: Application for market based rate authority, request for waivers and authorizations, and request for finding of qualifications as Category 1 Seller re Medicine Bow Power Partners, LLC.

Filed Date: 12/03/2009.

Accession Number: 20091207-0041.

Comment Date: 5 p.m. Eastern Time on Thursday, December 24, 2009.

Docket Numbers: ER10-377-000.

Applicants: Elm Creek Wind II LLC.

Description: Application of Elk Creek Wind II, LLC for order accepting Initial Tariff, Waiving Regulations, and Granting Blanket Approvals, including Blanket Approvals under 18 CFR part 34 for all future issuances of securities etc.

Filed Date: 12/03/2009.

Accession Number: 20091207-0040.

Comment Date: 5 p.m. Eastern Time on Thursday, December 24, 2009.

Docket Numbers: ER10-378-000.

Applicants: Buffalo Ridge II LLC.

Description: Application of Buffalo Ridge II, LLC for order accepting initial tariff, waiving regulations, and granting blanket approvals, including blanket approvals under 18 CFR part 34 for all future issuances of securities etc.

Filed Date: 12/03/2009.

Accession Number: 20091207-0042.

Comment Date: 5 p.m. Eastern Time on Thursday, December 24, 2009.

Docket Numbers: ER10-380-000.

Applicants: Westar Energy, Inc.

Description: Westar Energy, Inc. submits notice of cancellation of a confirmation letter for Wholesale Electric Energy and Capacity between Westar and the City of Alma.

Filed Date: 12/03/2009.

Accession Number: 20091207-0031.

Comment Date: 5 p.m. Eastern Time on Thursday, December 24, 2009.

Docket Numbers: ER10-381-000.

Applicants: Westar Energy, Inc.

Description: Westar Energy, Inc. submits Notice of Cancellation to Service Agreement 207 with the City of Wathena, Kansas.

Filed Date: 12/03/2009.

Accession Number: 20091207-0030.

Comment Date: 5 p.m. Eastern Time on Thursday, December 24, 2009.

Docket Numbers: ER10-382-000.

Applicants: Florida Power Corporation.

Description: Progress Energy Florida, Inc submits an executed operating agreement with Seminole Electric Cooperative, Inc.

Filed Date: 12/03/2009.

Accession Number: 20091207-0032.

Comment Date: 5 p.m. Eastern Time on Thursday, December 24, 2009.

Docket Numbers: ER10-383-000.

Applicants: Southern California Edison Company.

Description: Southern California Edison Company submits Service Agreement No 83.

Filed Date: 12/03/2009.

Accession Number: 20091207-0035.

Comment Date: 5 p.m. Eastern Time on Thursday, December 24, 2009.

Docket Numbers: ER10-384-000.

Applicants: Southern California Edison Company.

Description: Southern California Edison Co submits the Generation Interconnection Process Reform Tariff Amendment for its Wholesale Distribution Access Tariff.

Filed Date: 12/03/2009.

Accession Number: 20091207-0034.

Comment Date: 5 p.m. Eastern Time on Thursday, December 24, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-29662 Filed 12-11-09; 8:45 am]

BILLING CODE 6717-01-P